DEPARTMENT OF COMMERCE

International Trade Administration

[C-570-197]

Slag Pots From the People's Republic of China: Alignment of Final Countervailing Duty Determination With Final Less-Than-Fair-Value Determination

AGENCY: Enforcement and Compliance, International Trade Administration, Department of Commerce.

DATES: Applicable April 15, 2025.

FOR FURTHER INFORMATION CONTACT: Samuel Brummitt or T.J. Worthington, AD/CVD Operations, Office III, Enforcement and Compliance, International Trade Administration, U.S. Department of Commerce, 1401 Constitution Avenue NW, Washington, DC 20230; telephone: (202) 482-7851 or (202) 482-4567, respectively.

SUPPLEMENTARY INFORMATION:

Background

On January 21, 2025, the U.S. Department of Commerce (Commerce) initiated the countervailing duty (CVD) investigation of slag pots from the People's Republic of China (China).¹ Simultaneously, Commerce initiated the less-than-fair-value (LTFV) investigation of slag pots from China.² The CVD investigation and the LTFV investigation cover the same class or kind of merchandise.

¹ See Slag Pots from the People's Republic of China: Initiation of Countervailing Duty Investigation, 90 FR 8267 (January 28, 2025).

² See Slag Pots from the People's Republic of China: Initiation of Less-Than-Fair-Value Investigation, 90 FR 8276 (January 28, 2025).

Alignment With Final LTFV Determination

On April 8, 2025, in accordance with section 705(a)(1) of the Tariff Act of 1930, as amended (the Act), WHEMCO-Steel Castings, Inc., the petitioner, timely requested an alignment of the final CVD determination with the final LTFV determination of slag pots from China.³ Therefore, in accordance with section 705(a)(1) of the Act and 19 CFR 351.210(b)(4)(i), Commerce is aligning the final CVD determination with the final LTFV determination. Consequently, the final CVD determination will be issued on the same date as the final LTFV determination, which is currently scheduled to be issued no later than August 25, 2025, unless postponed.⁴

³ See Petitioner's Letter, “Request to Align Final Countervailing Duty Determination with the Companion Antidumping Duty Final Determination,” dated April 8, 2025.

⁴ Commerce notes that the current deadline for the final LTFV determination is August 24, 2025, which is a Sunday. Commerce's practice dictates that where a deadline falls on a weekend or federal holiday, the appropriate deadline is the next business day. See Notice of Clarification: Application of “Next Business Day” Rule for Administrative Determination Deadlines Pursuant to the Tariff Act of 1930, As Amended, 70 FR 24533 (May 10, 2005).

Notification to Interested Parties

This notice is issued and published pursuant to section 705(a)(1) of the Act and 19 CFR 351.210(b)(4)(I).

Dated: April 9, 2025.
Christopher Abbott,
Deputy Assistant Secretary for Policy and Negotiations, performing the non-exclusive functions and duties of the Assistant Secretary for Enforcement and Compliance.

[FR Doc. 2025-06361 Filed 4-14-25; 8:45 am]

BILLING CODE 3510-DS-P